DEPARTMENT OF ENERGY

Federal Energy Regulatory Commission

[Project No. 14759-000]

City of Paterson, New Jersey; Notice of Effective Date of Withdrawal of Notice of Intent

On February 29, 2016, the City of Paterson, New Jersey (City) filed a Notice of Intent (NOI) for the 10.95-megawatt Great Falls Hydroelectric Project located on the Passaic River near the city of Paterson, New Jersey. On May 18, 2016, the City filed a letter informing the Commission that it was withdrawing its NOI for the above-referenced project.

Pursuant to Rule 216(b) of the Commission's Rules of Practice and Procedure,¹ a withdrawal of a pleading is effective at the end of 15 days from the date of filing the notice of withdrawal. No motion in opposition to the notice of withdrawal has been filed, and the Commission has taken no action to disallow the withdrawal; thus, the withdrawal is effective on June 2, 2016.

¹ 18 CFR 385.216(b) (2015).

Dated: June 10, 2016.
Nathaniel J. Davis, Sr.,
Deputy Secretary.

[FR Doc. 2016-14222 Filed 6-15-16; 8:45 am]

BILLING CODE 6717-01-P